DEPARTMENT OF COMMERCE

National Oceanic and Atmospheric Administration

RIN 0648-XS35

Marine Mammals; File No. 14450

AGENCY: National Marine Fisheries Service (NMFS), National Oceanic and Atmospheric Administration (NOAA), Commerce.

ACTION: Notice; issuance of permit amendment.

SUMMARY: Notice is hereby given that a major amendment to Permit No. 14450-03 has been issued to the National Marine Fisheries Service's Southeast Fisheries Science Center (SEFSC), 75 Virginia Beach Drive, Miami, FL 33149 [Responsible Party: Bonnie Ponwith, Ph.D.].

ADDRESSES: The permit amendment and related documents are available for review upon written request or by appointment in the following offices: Permits and Conservation Division, Office of Protected Resources, NMFS, 1315 East-West Highway, Room 13705, Silver Spring, MD 20910; phone (301) 427-8401; fax (301) 713-0376.

FOR FURTHER INFORMATION CONTACT: Jennifer Skidmore or Amy Hapeman, (301) 427-8401.

SUPPLEMENTARY INFORMATION: On July 9, 2015, notice was published in the Federal Register (80 FR 39411) that a request for an amendment to Permit No. 14450-02 to conduct research on cetaceans had been submitted by the above-named applicant. The requested permit amendment has been issued under the authority of the Marine Mammal Protection Act of 1972, as amended (16 U.S.C. 1361 et seq.) and the regulations governing the taking and importing of marine mammals (50 CFR part 216).

The permit amendment authorizes takes by harassment of non-ESA listed cetaceans during vessel surveys to support NMFS stock assessments as follows: 40 Bryde's whales (Balaenoptera edeni), 40 of each species of short-finned (Globicephala macrorhynchus) and long-finned (G. melas) pilot whales, and 20 individuals each of the 21 other authorized non-listed cetacean species, annually. Tags would be either suction cup attachments or minimally invasive dart attachments. A maximum of 2 tags could be placed on an animal at one time. Adults of both sexes without calves would be tagged. In addition, import and export of marine mammal samples from sources, other than current biopsy sampling, is authorized. The permit expires on February 28, 2019.

In compliance with the National Environmental Policy Act of 1969 (42 U.S.C. 4321 et seq.), a final determination has been made that the activity proposed is categorically excluded from the requirement to prepare an environmental assessment or environmental impact statement.

Dated: October 1, 2015.
Julia Harrison,
Chief, Permits and Conservation Division, Office of Protected Resources, National Marine Fisheries Service.

[FR Doc. 2015-25502 Filed 10-6-15; 8:45 am]

BILLING CODE 3510-22-P